BUREAU OF CONSUMER FINANCIAL PROTECTION

[Docket No: CFPB-2020-0001]

Privacy Act of 1974; System of Records

AGENCY: Bureau of Consumer Financial Protection.

ACTION: Notice of a modified Privacy Act System of Records.

SUMMARY: In accordance with the Privacy Act of 1974, as amended, the Bureau of Consumer Financial Protection, hereinto referred to as the Consumer Financial Protection Bureau (Bureau), gives notice of the modification of a Privacy Act System of Records. The information in the system enables the Bureau to carry out its responsibilities under the Freedom of Information Act (FOIA) and the Privacy Act (PA), including enabling staff to receive, track, and respond to requests. The Bureau is modifying the system of records in order to update descriptions of the system location; the system manager; the address whereby a member of the public can request access to records, contest records, or request notification whether a system contains a record pertaining to him or her; and the policies and practices for retention and disposal of records.

DATES: Comments must be received no later than February 21, 2020. The modified system of records will be effective January 22, 2020, unless the comments received result in a contrary determination.

ADDRESSES: You may submit comments, identified by the title and the docket number (see above), by any of the following methods:

• Electronic: http://www.regulations.gov: Follow the instructions for soliciting comments.

• Email: privacy@cfpb.gov.

• Mail/Hand Delivery/Courier: Tannaz Haddadi, Acting Chief Privacy Officer, Bureau of Consumer Financial Protection, 1700 G Street NW, Washington, DC 20552.

All submissions must include the agency name and docket number for this notice. In general, all comments received will be posted without change to http://www.regulations.gov. In addition, comments will be available for public inspection and copying at 1700 G Street NW, Washington, DC 20552 on official business days between the hours of 10 a.m. and 5 p.m. Eastern Time. You can make an appointment to inspect comments by telephoning (202) 435-7058. All comments, including attachments and other supporting materials, will become part of the public record and subject to public disclosure. You should submit only information that you wish to make available publicly.

FOR FURTHER INFORMATION CONTACT: Tannaz Haddadi, Acting Chief Privacy Officer, at (202) 435-7058. If you require this document in an alternative electronic format, please contact CFPB_Accessibility@cfpb.gov. Please do not submit comments to these email boxes.

SUPPLEMENTARY INFORMATION: The Dodd-Frank Wall Street Reform and Consumer Protection Act, Public Law 111-203, title X, established the Bureau. The Bureau will maintain the records covered by this notice. The modified system of records described in this notice, “CFPB.001—Freedom of Information Act/Privacy System,” will collect information to enable the Bureau to carry out its responsibilities under the FOIA and the PA, including enabling staff to receive, track, and respond to requests. This modified system of records updates descriptions of the system location; the system manager; the address whereby a member of the public can request access to records, contest records, or request notification whether a system contains a record pertaining to him or her, and the policies and practices for retention and disposal of records. The updated sections reflect the Bureau's new address: Bureau of Consumer Financial Protection, 1700 G Street NW, Washington, DC 20552, and the updated records schedule. Records in this system will be destroyed two years after supersession by a revision SORN or after the system ceases operation. In addition, the Bureau is making non-substantive revisions to the system of records notice to align with the Office of Management and Budget's recommended model in Circular A-108, appendix II.

The report of a modified system of records has been submitted to the Committee on Oversight and Reform of the House of Representatives, the Committee on Homeland Security and Governmental Affairs of the Senate, and the Office of Management and Budget, pursuant to OMB Circular A-108, “Federal Agency Responsibilities for Review, Reporting, and Publication under the Privacy Act” (December 23, 2016),¹ and the Privacy Act, 5 U.S.C. 552a(r).

¹ Although pursuant to section 1017(a)(4)(E) of the Consumer Financial Protection Act, Public Law 111-203, the Bureau is not required to comply with OMB-issued guidance, it voluntarily follows OMB privacy-related guidance as a best practice and to facilitate cooperation and collaboration with other agencies.

The system of records entitled “CFPB.001—Freedom of Information Act/Privacy System” is published in its entirety below.

SYSTEM NAME AND NUMBER:

CFPB.001—Freedom of Information Act/Privacy Act System.

SECURITY CLASSIFICATION:

This information system does not contain any classified information or data.

SYSTEM LOCATION:

Bureau of Consumer Financial Protection, 1700 G Street NW, Washington, DC 20552.

SYSTEM MANAGER(S):

Chief FOIA Officer, Bureau of Consumer Financial Protection, 1700 G Street NW, Washington, DC 20552; (855) 444-3642.

AUTHORITY FOR MAINTENANCE OF THE SYSTEM:

Public Law 111-203; title X, sections 1012 and 1013, codified at 12 U.S.C. 5492, 5493.

PURPOSE(S) OF THE SYSTEM:

The information in the system is being collected to enable the Bureau to carry out its responsibilities under FOIA and PA, including enabling staff to receive, track, and respond to requests. This requires maintaining documentation gathered during the consideration and disposition process, administering annual reporting requirements, managing FOIA-related fees and calculations, and delivering responsive records. The information will also be used for administrative purposes to ensure quality control, performance, and improving management processes.

CATEGORIES OF INDIVIDUALS COVERED BY THE SYSTEM:

Individuals covered by this system are persons who cite FOIA or the PA to request access to records or whose information requests are treated as FOIA requests. Other individuals covered include Bureau staff assigned to process such requests, and employees who may have responsive records or are mentioned in such records. FOIA requests are subject to the PA only to the extent that they concern individuals; information pertaining to corporations and other business entities and organizations are not subject to the PA.

CATEGORIES OF RECORDS IN THE SYSTEM:

Records in the system may contain: (1) Correspondence with the requester including initial requests and appeals; (2) documents generated or compiled during the search and processing of the request; (3) fee schedules, cost calculations, and assessed cost for disclosed FOIA records; (4) documents and memoranda supporting the decision made in response to the request, referrals, and copies of records provided or withheld; (5) Bureau staff assigned to process, consider, and respond to requests and, where a request has been referred to another agency with equities in a responsive document, information about the individual handling the request on behalf of that agency; (6) information identifying the entity that is subject to the requests or appeals; (7) requester information, including name, address, phone number, email address; FOIA tracking number, phone number, fax number, or some combination thereof; and (8) for access requests under the Privacy Act, identifying information regarding both the party who is making the written request or appeal, and the individual on whose behalf such written requests or appeals are made, including name, Social Security number (SSNs may be submitted with documentation or as proof of identification), address, phone number, email address, FOIA number, phone number, fax number, or some combination thereof. This system also consists of records related to requests for OGIS assistance.

RECORD SOURCE CATEGORIES:

Information in this system covers individuals about whom records are maintained; agency staff assigned to help process, consider and respond to the request, including any appeals; entities filing requests or appeals on behalf of the requestor; other governmental authorities; and entities that are the subjects of the request or appeals.

ROUTINE USES OF RECORDS MAINTAINED IN THE SYSTEM, INCLUDING CATEGORIES OF USERS AND THE PURPOSES OF SUCH USES:

These records may be disclosed, consistent with the Bureau's Disclosure of Records and Information Rules, promulgated at 12 CFR part 1070, to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm;

(2) Another Federal agency or Federal entity, when the Bureau determines that information from this system of records is reasonably necessary to assist the recipient agency or entity in (a) responding to a suspected or confirmed breach or (b) Preventing, minimizing, or remedying the risk of harm to individuals, the recipient agency or entity (including its information systems, programs, and operations), the Federal Government, or national security, resulting from a suspected or confirmed breach.

(3) Another Federal or State agency to (a) permit a decision as to access, amendment or correction of records to be made in consultation with or by that agency, or (b) verify the identity of an individual or the accuracy of information submitted by an individual who has requested access to or amendment or correction of records;

(4) The Office of the President in response to an inquiry from that office made at the request of the subject of a record or a third party on that person's behalf;

(5) Congressional offices in response to an inquiry made at the request of the individual to whom the record pertains;

(6) Contractors, agents, or other authorized individuals performing work on a contract, service, cooperative agreement, job, or other activity on behalf of the Bureau or Federal Government and who have a need to access the information in the performance of their duties or activities;

(7) The DOJ for its use in providing legal advice to the Bureau or in representing the Bureau in a proceeding before a court, adjudicative body, or other administrative body, where the use of such information by the DOJ is deemed by the Bureau to be relevant and necessary to the advice or proceeding, and such proceeding names as a party in interest:

(a) The Bureau;

(b) Any employee of the Bureau in his or her official capacity;

(c) Any employee of the Bureau in his or her individual capacity where DOJ has agreed to represent the employee; or

(d) The United States, where the Bureau determines that litigation is likely to affect the Bureau or any of its components;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(9) Appropriate agencies, entities, and persons, including but not limited to potential expert witnesses or witnesses in the course of investigations, to the extent necessary to secure information relevant to the investigation;

(10) Appropriate Federal, State, local, foreign, tribal, or self-regulatory organizations or agencies responsible for investigating, prosecuting, enforcing, implementing, issuing, or carrying out a statute, rule, regulation, order, policy, or license if the information may be relevant to a potential violation of civil or criminal law, rule, regulation, order, policy or license; and

(11) National Archives and Records Administration, Office of Government Information Services (OGIS), to the extent necessary to fulfill its responsibilities in 5 U.S.C. 552(h), to review administrative agency policies, procedures, and compliance with FOIA, and to facilitate OGIS' offering of mediation services to resolve disputes between persons making FOIA requests and administrative agencies.

POLICIES AND PRACTICES FOR STORAGE OF RECORDS:

Paper and electronic records.

POLICIES AND PRACTICES FOR RETRIEVAL OF RECORDS:

Records are retrievable by a variety of fields including, but not limited to, the requester's name, the subject matter of request, requestor's organization, FOIA tracking number, and staff member assigned to process the request. Records may also be searched by the address, phone number, fax number, email address of the requesting party, and subject matter of the request, or by some combination thereof.

POLICIES AND PRACTICES FOR RETENTION AND DISPOSAL OF RECORDS:

Per DAA-GRS-2016-0003-0002, records will be destroyed two years after supersession by a revision SORN or after the system ceases operation.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

An individual seeking access to any record pertaining to him or her contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/foia-requests/submit-request/.

CONTESTING RECORD PROCEDURES:

An individual seeking to contest the content of any record pertaining to him or her contained in this system of records may inquire in writing in accordance with instructions appearing in the Bureau's Disclosure of Records and Information Rules, promulgated at 12 CFR 1070.50 et seq. Address such requests to: Chief Privacy Officer, Bureau of Consumer Financial Protection, 1700 G Street NW, Washington, DC 20552.

NOTIFICATION PROCEDURES:

An individual seeking notification whether any record contained in this system of records pertains to him or her may inquire in writing in accordance with instructions appearing in the Bureau's Disclosure of Records and Information Rules, promulgated at 12 CFR 1070.50 et seq. Address such requests to: Chief Privacy Officer, Bureau of Consumer Financial Protection, 1700 G Street NW, Washington, DC 20552.

EXEMPTIONS PROMULGATED FOR THE SYSTEM:

None.

HISTORY:

76 FR 45768 (August 1, 2011); 78 FR 47306 (August 5, 2013); 79 FR 78837 (December 31, 2014); 83 FR 23435 (May 21, 2018).

Dated: November 27, 2019.
Kate Fulton,
Senior Agency Official for Privacy, Bureau of Consumer Financial Protection.

[FR Doc. 2020-00141 Filed 1-21-20; 8:45 am]

BILLING CODE 4810-AM-P